FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 201112-002.

Title: Lease and Operating Agreement between Philadelphia Regional Port Authority and Kinder Morgan Liquids Terminals LLC.

Parties: Philadelphia Regional Port Authority and Kinder Morgan Liquids Terminals, LLC.

Filing Party: Paul D. Coleman, Esq.; Hoppel, Mayer & Coleman; 1050 Connecticut Ave., NW., 10th Floor; Washington, DC 20036.

Synopsis: The amendment restates the lease to provide a new initial term until December 31, 2019, with five yearly renewal periods; set new rent terms; and makes other miscellaneous changes.

Agreement No.: 201118-002.

Title: Lease and Operating Agreement between Philadelphia Regional Port Authority and Kinder Morgan Linquest Terminals LLC.

Parties: Philadelphia Regional Port Authority and Penn Warehousing and Distribution, Inc.

Filing Party: Paul D. Coleman, Esq.; Hoppel, Mayer & Coleman; 1050 Connecticut Ave. NW., 10th Floor; Washington, DC 20036.

Synopsis: The amendment defines the lease year, clarifies the dockage fee, allows a credit to the Lessee if dockage fees collected reach a certain level, and make other miscellaneous changes.

Dated: January 29, 2010.
By Order of the Federal Maritime Commission.
Karen V. Gregory,
Secretary.

[FR Doc. 2010-2307 Filed 2-2-10; 8:45 am]

BILLING CODE 6730-01-P